DEPARTMENT OF HEALTH AND HUMAN SERVICES

National Institutes of Health

National Cancer Institute; Amended Notice of Meeting

Notice is hereby given of a change in the meeting of the Frederick National Laboratory Advisory Committee to the National Cancer Institute, October 24, 2019, 9:00 a.m. to October 24, 2019, 4:30 p.m., National Cancer Institute Shady Grove, 9609 Medical Center Drive, TE406, Rockville, MD 20850, which was published in the Federal Register on February 11, 2019, 84 FR 3215.

This meeting notice is amended to change the start time of the meeting from 9:00 a.m. to 8:45 a.m. on October 24, 2019. The meeting location has also been changed to National Cancer Institute, Advanced Technology Research Facility (ATRF), Conference Room E-1600, 8560 Progress Drive, Frederick, MD 21701. The meeting is open to the public.

Dated: October 3, 2019.
Melanie J. Pantoja,
Program Analyst, Office of Federal Advisory Committee Policy.

[FR Doc. 2019-22115 Filed 10-9-19; 8:45 am]

BILLING CODE 4140-01-P